DEPARTMENT OF THE INTERIOR

Bureau of Land Management

Colorado: Filing of Plats of Survey

October 18, 2005.

Summary: The plats of survey of the following described land will be officially filed in the Colorado State Office, Bureau of Land Management, Lakewood, Colorado, effective 10 a.m., October 18, 2005. All inquiries should be sent to the Colorado State Office (CO-956), Bureau of Land Management, 2850 Youngfield Street, Lakewood, Colorado 80215-7093.

The plat (in two sheets) which includes the field notes, and is the entire record of this survey of Tract 37, in suspended Township 44 North, Range 5 West, New Mexico Principal Meridian, Colorado, was accepted August 17, 2005.

The supplemental plat of section 24, in Township 1 North, Range 72 West, Sixth Principal Meridian, Colorado, created new Lots 106, 107 and 108 in the NW¼NW¼ of Section 24, and is based upon the boundaries of the Whitedare unpatented Mining Claim, CMC-115653, as defined by the dependent resurvey accepted August 20, 2003, was accepted August 16, 2005.

The supplemental plat of Tract 39, patented April 3, 1986, Patent No. 05-86-0022 in Township 1 North, Range 72 West, Sixth Principal Meridian, Colorado, which added the patented acreage value of Tract 39, that was omitted from the June 20, 1985 plat which created Tract 39, was accepted August 16, 2005.

The supplemental plat which corrects and supersedes the supplemental plat accepted April 19, 2005, which incorrectly depicted the mineral survey number of the Mayflower and Little Boy Lodes in Township 48 North, Range 2 East, Sec. 29, New Mexico Principal Meridian, Colorado, was accepted on July 27, 2005.

The plat and field notes of the dependent resurveys and surveys, facilitating a land exchange in Township 1 North, Range 79 West, Sixth Principal Meridian, Colorado, was accepted August 11, 2005.

The field notes, as depicted on two plat-only plats, of the remonumentation of certain corners was requested by the Geographic Coordinate Data Base Program Manager, Washington Office, under BPA: NAB-000008, Task Order No. NAD-000095, in Townships 12 North, Ranges 68 and 69 West, Sixth Principal Meridian, Colorado, were accepted on September 1, 2005.

The supplemental plat of section 20, creating new Lot 111 in the NE¼NE¼ of Section 20, is based upon Mineral Survey No. 19744, Roberta, Golden Rule, and Queen of the Valley approved October 19, 1916, and the dependent resurvey accepted March 13, 1963, in Township 1 North, Range 71 West, Sixth Principal Meridian, Colorado, was requested by the Canon City Field Office and was accepted on September 12, 2005.

The plat and field notes, of the dependent resurvey and surveys was requested by the Uncompahgre Field Office, with the approval of the State Director, Colorado, in order to identify public land boundaries and a portion of the Gunnison Gorge National Conservation Area Boundary, in Township 51 North, Range 9 West, New Mexico Principal Meridian, Colorado, was accepted on September 28, 2005. These plats and resurvey notes were requested by the Bureau of Land Management for administrative and management purposes.

The plat and field notes of the dependent resurveys and surveys requested by the USDA Forest Service, Medicine Bow-Routt National Forests, through the State Director, Colorado, in order to identify the National Forest boundaries in Township 6 North, Range 77 West, Sixth Principal Meridian, Colorado, was accepted on August 24, 2005.

The plat and field notes of the dependent resurvey and survey requested by the Regional Director of Lands, Rocky Mountain Region, USDA, Forest Service, through the State Director, Colorado, in order to identify the National Forest boundaries for management purposes in Township 10 North, Ranges 73 and 74 West, Sixth Principal Meridian, Colorado, were accepted on August 26, 2005.

The plat (in 2 sheets), which is the entire record, of the dependent resurvey and survey, requested by the Pike and San Isabel National Forests, through the State Director, Colorado, in order to locate certain forest service boundaries that pertain to fuel reduction projects north of Gardner, CO., in Township 25 South, Range 70 West, Sixth Principal Meridian, Colorado, was accepted on September 1, 2005.

The plat and field notes, of the dependent resurvey and survey, was requested by the Rocky Mountain Region, USDA, Forest Service, through the State Director, Colorado, in order to identify the National Forest boundaries for fuels reduction management purposes in Township 5 South, Range 72 West, Sixth Principal Meridian, Colorado, was accepted on September 7, 2005.

The plats and field notes, representing the dependent resurvey and surveys in Townships 36 and 37 North, Range 14 West, New Mexico Principal Meridian, Group 1391,Colorado, were accepted August 10, 2005. These surveys were requested by the Bureau of Indian Affairs, with the approval of the State Director, Colorado, in order to identify the boundary of Ute Mountain Ute lands for management purposes.

The plat and field notes, of the completion survey of Township 33 North, Range 19 West, New Mexico Principal Meridian, Colorado, was requested by the Ute Mountain Ute Indian Tribe, through the Bureau of Indian Affairs, Albuquerque, New Mexico, with the approval of the State Director, Colorado, in order to identify the reservation boundaries, was accepted September 7, 2005. 8,404.14 acres are included in this original survey.

Randall M. Zanon,
Chief Cadastral Surveyor for Colorado.

[FR Doc. 05-21451 Filed 10-26-05; 8:45 am]

BILLING CODE 4310-JB-P